DEPARTMENT OF DEFENSE

Department of the Air Force

Acceptance of Group Application Under Pub. L. 95-202 and Department of Defense Directive (DoDD) 1000.20 “Reconsideration: Pursers as Part of the U.S. Civilian Flight Crew and Aviation Ground Support Employees of Transcontinental and Western Air (TWA), Incorporated, Who Served Overseas as a Result of TWA's Contract With the Air Transport Command During the Period February 26, 1942 Through August 14, 1945.”

Under the provisions of section 401, Public Law 95-202 and DoD Directive 1000.20, the Department of Defense Civilian/Military Service Review Board has accepted a “reconsideration” of whether or not “pursers” should be recognized as part of the previously recognized group known as: “U.S. Civilian Flight Crew and Aviation Ground Support Employees of Transcontinental and Western Air (TWA), Inc., Who Served Overseas as a Result of TWA's Contract with the Air Transport Command During the Period February 26, 1942 through August 14, 1945.” Persons with information of documentation pertinent to the determination of whether the service of the “pursers” should be considered active military service to the Armed Forces of the United States are encouraged to submit such information or documentation within 60 days to the DoD Civilian/Military Service Review Board, 1535 Command Drive, EE-Wing, 3rd Floor, Andrews AFB, MD 20762-7002. Copies of documents or other materials submitted cannot be returned.

Pamela D. Fitzgerald,
Air Force Federal Register Liaison Officer.

[FR Doc. 02-22146 Filed 8-29-02; 8:45 am]

BILLING CODE 5001-05-P